DEPARTMENT OF COMMERCE

International Trade Administration

[A-122-838]

Certain Softwood Lumber Products From Canada: Notice of Partial Rescission of Antidumping Duty Administrative Review

AGENCY: Import Administration, International Trade Administration, Department of Commerce.

SUMMARY: The Department of Commerce (the Department) is conducting an administrative review of the antidumping duty order on certain softwood lumber products from Canada for the period May 22, 2002, through April 30, 2003. We are now rescinding this review with respect to 48 companies for which the requests for an administrative review have been withdrawn.

EFFECTIVE DATE: September 11, 2003.

FOR FURTHER INFORMATION CONTACT: Amber Musser or Constance Handley, at (202) 482-1777 or (202) 482-0631, respectively; AD/CVD Enforcement, Office 5, Group II, Import Administration, International Trade Administration, U.S. Department of Commerce, 14th Street & Constitution Avenue, NW., Washington, DC 20230.

SUPPLEMENTARY INFORMATION:

Background

On May 1, 2003, the Department published a notice of opportunity to request the first administrative review of this order. See Antidumping or Countervailing Duty Order, Finding, or Suspended Investigation; Opportunity to Request Administrative Review, 68 FR 23281 (May 1, 2003). On May 30, 2003, in accordance with 19 CFR 351.213(b), the Coalition for Fair Lumber Imports Executive Committee (the petitioner) requested a review of 192 producers/exporters of certain softwood lumber products. Also, between the dates of May 7, 2003, and June 2, 2003, 338 Canadian producers requested a review on their own behalf or had a review of their company requested by a U.S. importer. Taking into consideration the overlap in the three aforementioned categories, the total number of companies currently under review is 422.

On July 1, 2003, the Department published a notice of initiation of this antidumping duty administrative review, covering the period May 22, 2002, through April 30, 2003, See Initiation of Antidumping Administrative Review, 68 FR 39059 (July 1, 2003). The initiation, and subsequent correction, covered 422 companies.¹

¹ Buchanan Lumber, a distinct entity from Buchanan Lumber Sales Inc., was inadvertently omitted from the original initiation notice. See Initiation of Antidumping and Countervailing Duty Administrative Reviews, Requests for Revocation in Part and Deferral of Administrative Reviews, 68 FR 44253 (July 29, 2003).

On July 18, 2003, the petitioner withdrew its review request for 63 companies. On August 4, 2003, the petitioner withdrew its request for two additional companies. Of these 65 companies, eight had either requested their own review or had a review of their company requested by a U.S. importer. Accordingly, the Department has not rescinded the review with respect to these eight companies.

In addition, two of the companies for which the petitioner withdrew its request for a review, Lakeland Mills Ltd. and The Pas Lumber Co. Ltd., are affiliated with Canfor Corporation. Two of the companies, Excel Forest Products and Produits Forestiers Temrex Usine St. Alphonse, Inc., are affiliated with Tembec Inc. Two of the companies, Fraser, Inc. and Norbord Industries, Inc., are affiliated with Nexfor Inc. One of the companies, Groupe Cedrico, is affiliated with Bois d'oeuvre Cedrico Inc. And, one of the companies, Max Meilleur & Fils Ltee, is affiliated with Cobodex, Inc.² Therefore, because Canfor Corporation, Tembec Inc., Nexfor Inc., Bois d'oeuvre Cedrico Inc., and Cobodex, Inc. made timely requests for review the Department has not rescinded the review with respect to their affiliates.

² See Kaye Scholer LLP's July 16, 2003, submission, Baker & Hostetler's July 16, 2003, submission, Howrey Simon Arnold & White's August 5, 2003, submission, and Wilmer, Cutler, & Pickering's August 20, 2003, submissions.

Finally, the Department has not rescinded the review with respect to Leggett Wood because it is an operating division and registered trade name for Leggett and Platt, which has also requested its own review.

Partial Rescission of Antidumping Duty Administrative Review

The remaining 48 companies, included in the petitioner's July 18, 2003, letter, for whom the review will be rescinded are as follows:

100 Mile Wood Products Ltd.

5 Star Forest Industries Ltd.

Alliance Forest Product-Couturier Inc.

Antrim Cedar Corp.

Boucher Brothers Lumber Ltd.

CanEx Lumber Ltd.

Capital Forest Products

Coulson Manufacturing Ltd.

Davron Forest Products Ltd.

Deniso Lebel Inc.

Drummond Lumber

Ernie Braumburger

Galloway Lumber Co, Ltd.

Green Lake Metis Wood Products Ltd.

Hansen Forest Products Ltd.

J.H. Huscroft Ltd.

J.S. Jones Timber Ltd.

Jean Riopel Inc.

Jeffery Hanson

Kalesnikoff Lumber Co, Ltd.

L & M Wood Products (1985) Ltd.

La Scierie Lachance Ltee.

Lacrete Sawmills Ltd.

Les Chantiers de Chibougamau Ltee

Linde Bros. Lumber Ltd.

Lytton Lumber Ltd.

Manning Diversified Forest Products Ltd.

Medicine Lodge Timber Products Ltd.

Moen Lumber

Mostowich Lumber Ltd.

North Star Pallets

Oyama Forest Products

Port Arthur Lumber & Planing Mill Ltd.

Portbois

Precision Lumber Products Inc.

Rocky Wood Preservers Ltd.

Scierie Gauthier Ltee

Scierie Laterriere Ltee

Scierie Norbois Inc.

Skeena Cellulose Inc.

Strachan Forest Products Ltd.

Tara Forest Products

Trans North Timber

Transco Mills Ltd.

Uniforet Inc.

Universal Reel & Recycling Inc.

Zavisha Sawmills Ltd.

Zelensky Brothers La Ronge Sawmill

Pursuant to 19 CFR 315.213(d)(1), we are rescinding the administrative review with respect to each of the above listed companies. The Department will issue appropriate assessment instructions to the U.S. Bureau of Customs and Border Protection within 15 days of publication of this notice.

This notice is issued and published in accordance with section 751 of the Tariff Act of 1930, as amended, and 19 CFR 351.213(d)(4).

Dated: September 5, 2003.
Gary Taverman,
Acting Deputy Assistant Secretary for Import Administration.

[FR Doc. 03-23191 Filed 9-10-03; 8:45 am]

BILLING CODE 3510-DS-P